COMMITTEE FOR PURCHASE FROM PEOPLE WHO ARE BLIND OR SEVERELY DISABLED

Procurement List Proposed Additions and Deletions

AGENCY: Committee for Purchase From People Who Are Blind or Severely Disabled.

ACTION: Proposed additions to and deletions from Procurement List.

SUMMARY: The Committee has received proposals to add to the Procurement List services to be furnished by nonprofit agencies employing persons who are blind or have other severe disabilities, and to delete commodities previously furnished by such agencies.

COMMENTS MUST BE RECEIVED ON OR BEFORE: August 7, 2000.

ADDRESS: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed additions, all entities of the Federal Government (except as otherwise indicated) will be required to procure the services listed below from nonprofit agencies employing persons who are blind or have other severe disabilities. I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Grounds Maintenance

Family Housing and Naval Hospital, Marine Corps Base, Camp Lejeune, North Carolina.

NPA: Coastal Enterprises of Jacksonville, Inc., Jacksonville, North Carolina.

Janitorial/Custodial

U.S. Army Reserve Center, 180 High Street, Fairfield, Connecticut.

NPA: CW Resources, Inc., New Britain, Connecticut.

Janitorial/Custodial

U.S. Army Reserve Center, AMSA 69, 26 Seamans Lane, Milford, Connecticut.

NPA: CW Resources, Inc., New Britain, Connecticut.

Janitorial/Custodial

U.S. Department of Agriculture, Avian Disease and Oncology Lab, East Lansing, Michigan.

NPA: Peckham Vocational Industries, Inc., Lansing, Michigan.

Switchboard Operation

VA Hudson Valley Health Care System, Castle Point Campus, Castle Point, New York.

NPA: Blind Work Association, Binghamton, New York.

Switchboard Operation

VA Hudson Valley Health Care System, FDR Campus, Albany Post Road, Montrose, New York.

NPA: Blind Work Association, Binghamton, New York.

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List:

Paper, Kraft Wrapping

8135-00-160-7752

8135-00-160-7770

Tree Marking Paint and Tracer Element

8010-01-273-3769

8010-01-273-3768

8010-01-273-3767

8010-01-273-3766

8010-01-274-2569

8010-01-274-2568

8010-01-274-2564

8010-01-273-3765

8010-01-273-3764

8010-01-273-3763

8010-01-273-8705

8010-01-274-2567

8010-01-274-7795

8010-01-274-2563

8010-01-274-2574

8010-01-274-2573

8010-01-274-2572

8010-01-274-2571

8010-01-274-2566

8010-01-274-2565

8010-01-274-2562

8010-01-380-1779

8010-01-380-1770

8010-01-380-1706

8010-01-380-1710

8010-01-380-1777

8010-01-380-1781

8010-01-380-1708

8010-01-380-1732

8010-01-380-1700

8010-01-380-1727

8010-01-380-1756

8010-01-380-1702

8010-01-380-1745

8010-01-380-1735

8010-01-380-1766

8010-01-380-1755

8010-01-380-1769

8010-01-380-1763

8010-01-380-1739

8010-01-380-1757

8010-01-380-1753

Louis R. Bartalot,
Deputy Director (Operations).

[FR Doc. 00-17233 Filed 7-6-00; 8:45 am]

BILLING CODE 6353-01-P